DEPARTMENT OF ENERGY

Federal Energy Regulatory Commission

Combined Notice of Filings #1

Take notice that the Commission received the following exempt wholesale generator filings:

Docket Numbers: EG24-206-000.

Applicants: FRP Gilchrist County Solar, LLC.

Description: FRP Gilchrist County Solar, LLC submits notice of self-certification of exempt wholesale generator status.

Filed Date: 6/17/24.

Accession Number: 20240617-5226.

Comment Date: 5 p.m. ET 7/8/24.

Docket Numbers: EG24-207-000.

Applicants: FRP Columbia County Solar, LLC.

Description: FRP Columbia County Solar, LLC submits notice of self-certification of exempt wholesale generator status.

Filed Date: 6/17/24.

Accession Number: 20240617-5229.

Comment Date: 5 p.m. ET 7/8/24.

Docket Numbers: EG24-208-000.

Applicants: FRP Gadsden County Solar, LLC.

Description: FRP Gadsden County Solar, LLC submits notice of self-certification of exempt wholesale generator status.

Filed Date: 6/17/24.

Accession Number: 20240617-5233.

Comment Date: 5 p.m. ET 7/8/24.

Take notice that the Commission received the following electric rate filings:

Docket Numbers: ER24-1518-001.

Applicants: Nevada Power Company.

Description: Compliance filing: ER24-1518 Compliance Filing to be effective 5/14/2024.

Filed Date: 6/18/24.

Accession Number: 20240618-5114.

Comment Date: 5 p.m. ET 7/9/24. \

Docket Numbers: ER24-1957-000; TS24-3-000.

Applicants: Horus Louisiana 1, LLC, Horus Louisiana 1, LLC.

Description: Supplement to 05/07/2024 request for temporary waiver of Horus Louisiana 1, LLC.

Filed Date: 6/18/24.

Accession Number: 20240618-5082.

Comment Date: 5 p.m. ET 6/28/24.

Docket Numbers: ER24-2298-000.

Applicants: American Transmission Systems, Incorporated, PJM Interconnection, L.L.C.

Description: 205(d) Rate Filing: American Transmission Systems, Incorporated submits tariff filing per 35.13(a)(2)(iii: ATSI submits one Construction Agreement, SA No. 7165 to be effective 6/1/2022.

Filed Date: 6/18/24.

Accession Number: 20240618-5043.

Comment Date: 5 p.m. ET 7/9/24.

Docket Numbers: ER24-2300-000.

Applicants: New York State Electric & Gas Corporation.

Description: 205(d) Rate Filing: NYSEG-NYPA Attachment C—O&M Annual Update to be effective 9/1/2024.

Filed Date: 6/18/24.

Accession Number: 20240618-5045.

Comment Date: 5 p.m. ET 7/9/24.

Take notice that the Commission received the following electric securities filings:

Docket Numbers: ES24-41-000.

Applicants: ISO New England Inc.

Description: Application under Section 204 of the Federal Power Act for authorization to issue securities of ISO New England Inc.

Filed Date: 6/17/24.

Accession Number: 20240617-5248.

Comment Date: 5 p.m. ET 7/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 18, 2024.
Debbie-Anne A. Reese,
Acting Secretary.

[FR Doc. 2024-13933 Filed 6-25-24; 8:45 am]

BILLING CODE 6717-01-P